DEPARTMENT OF THE INTERIOR

National Park Service

[NPS-WASO-NAGPRA-NPS0037521; PPWOCRADN0-PCU00RP14.R50000]

Notice of Intended Repatriation: Yager Museum of Art & Culture, Hartwick College, Oneonta, NY

AGENCY: National Park Service, Interior.

ACTION: Notice.

SUMMARY: In accordance with the Native American Graves Protection and Repatriation Act (NAGPRA), the Yager Museum of Art & Culture, Hartwick College (hereafter “Yager Museum”) intends to repatriate a certain cultural item that meets the definition of an object of cultural patrimony and that has a cultural affiliation with the Indian Tribes or Native Hawaiian organizations in this notice.

DATES: Repatriation of the cultural item in this notice may occur on or after April 5, 2024.

ADDRESSES: Dr. Quentin Lewis, Yager Museum of Art & Culture, Hartwick College, 1 Hartwick Drive, Oneonta, NY 13820, telephone (607) 431-4481, email lewisq@hartwick.edu.

SUPPLEMENTARY INFORMATION: This notice is published as part of the National Park Service's administrative responsibilities under NAGPRA. The determinations in this notice are the sole responsibility of the Yager Museum, and additional information on the determinations in this notice, including the results of consultation, can be found in the summary or related records. The National Park Service is not responsible for the determinations in this notice.

Abstract of Information Available

One cultural item has been requested for repatriation. The object is a bear claw necklace, consisting of a small leather thong or strap, which is threaded through punctured holes in each of two bear claws. This necklace was originally in the collection of Townsend Bishop (1867-1950) of Colliersville, NY. It is unclear how Mr. Bishop acquired this necklace. This collection was purchased by Rowan Spraker Sr. of Cooperstown, NY, before joining the Yager Museum's collection in 1963. Museum records indicate that this necklace was made by the Ute, and subsequent research and consultation has supported this affiliation, as well as the culturally patrimonial status of this object to the Ute people.

Determinations

The Yager Museum has determined that:

• Objects of Cultural Patrimony: The one object described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Southern Ute Indian Tribe of the Southern Ute Reservation, Colorado; Ute Indian Tribe of the Uintah & Ouray Reservation, Utah; and the Ute Mountain Ute Tribe.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after April 5, 2024. If competing requests for repatriation are received, the Yager Museum must determine the most appropriate requestor prior to repatriation. Requests for joint repatriation of the cultural item are considered a single request and not competing requests. The Yager Museum is responsible for sending a copy of this notice to the Indian Tribes and Native Hawaiian organizations identified in this notice and to any other consulting parties.

Authority: Native American Graves Protection and Repatriation Act, 25 U.S.C. 3004 and the implementing regulations, 43 CFR 10.9.

Dated: February 27, 2024.
Melanie O'Brien,
Manager, National NAGPRA Program.

[FR Doc. 2024-04659 Filed 3-5-24; 8:45 am]

BILLING CODE 4312-52-P